DEPARTMENT OF HEALTH AND HUMAN SERVICES

Centers for Disease Control and Prevention

Strengthening HIV/AIDS, TB and STI Prevention, Control and Treatment in the Oromia Area of the Southwest Region of the Federal Democratic Republic of Ethiopia

Announcement Type: New .

Funding Opportunity Number: AA136.

Catalog of Federal Domestic Assistance Number: 93.067.

Key Dates: Application deadline: September 19, 2005.

I. Funding Opportunity Description

Authority: This program is authorized under sections 301(a) and 307 of the Public Health Service Act [42 U.S.C. 241 and 2421], as amended, and under Public Law 108-25 (United States Leadership Against HIV/AIDS, Tuberculosis and Malaria Act of 2003) [U.S.C. 7601].

Background: President Bush's Emergency Plan for AIDS Relief has called for immediate, comprehensive and evidence-based action to turn the tide of global HIV/AIDS. The initiative aims to treat more than two million HIV-infected people with effective combination anti-retroviral therapy by 2008; care for ten million HIV-infected and affected persons, including those orphaned by HIV/AIDS, by 2008; and prevent seven million infections by 2010, with a focus on 15 priority countries, including 12 in sub-Saharan Africa. The five-year strategy for the Emergency Plan is available at the following Internet address: http://www.state.gov/s/gac/rl/or/c11652.htm.

The Emergency Plan goals specific to Ethiopia are to treat at least 210,000 HIV-infected individuals and care for 1,050,000 HIV-affected individuals, including orphans.

Purpose: The U.S. Department of Health and Human Services (HHS) announces the availability of Fiscal Year (FY) 2005 funds for a cooperative agreement for strengthening the activities on the prevention, control, and treatment of Human Immunodeficiency Virus Infection and Acquired Immunodeficiency Syndrome, other Sexually Transmitted Infections and Tuberculosis (HIV/AIDS/STI/TB) among students and faculty of higher education institutions in the Oromia area of Southwest Ethiopia.

This project particularly aims to: (1) Improve HIV/AIDS/STI/TB prevention following the Abstinence, Be Faithful, and, for populations engaged in high-risk behaviors,¹ Correct and Consistent Condom Use (ABC) strategies, control, and treatment programs; (2) strengthen training in HIV/AIDS/STI/TB care and treatment, (3) implement HIV/AIDS/STI/TB related targeted monitoring and evaluations and development plans; (4) establish a technical support and training unit to support the Oromia Regional Health Bureau and assist HIV/AIDS/STI/TB program implementation in the Oromia region of Southwest Ethiopia; (5) conduct prevention, care and treatment of HIV/AIDS/STIs programs among students and faculty at institutions of higher education in the region and (6) develop the health system and infrastructure important for the delivery of HIV/AIDS/STI/TB services in the Oromia region Southwest Ethiopia.

¹ Behaviors that increase risk for HIV transmission including engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home.

This project addresses the Healthy People 2010 focus area of HIV.

The U.S. Government (USG) has taken major steps to reduce the global impact of HIV/AIDS. Through various agencies, including the Department of Health and Human Services, the U.S. Government is working with specific countries in sub-Saharan Africa, Asia, and the Americas. The President's Emergency Plan for AIDS Relief aims at strengthening national capacities for: (1) HIV primary prevention; (2) HIV care, support, and treatment; and (3) health systems and infrastructure development. Targeted countries represent those with the most severe epidemics and the highest number of new infections. They also represent countries where the potential for impact is greatest and where U.S. Government agencies are already active.

As one of the key agencies to implement the Emergency Plan, HHS is working in a collaborative manner with national governments and other agencies to develop programs of assistance to address the HIV/AIDS epidemic in target countries, including Ethiopia. In particular, HHS's mission in Ethiopia is to work with Ethiopian and international partners to develop and apply effective interventions to prevent and treat HIV infection and associated illness and deaths from AIDS.

Ethiopia is among the world's countries most adversely affected by the HIV/AIDS epidemic and TB. STIs are highly prevalent, and contribute to morbidity and mortality from HIV/AIDS. With an estimated 1.5 million adults infected with HIV by the end of 2003, Ethiopia had one of the largest populations of HIV-infected persons in the world. The estimated percent of persons age 15 to 49 infected with HIV is 4.4 percent. There have been about a million cumulative deaths due to AIDS. Estimates posit that 200,000 children are currently living with HIV in Ethiopia and that AIDS has orphaned over 500,000 children.

Given the complex nature of the causes and the serious impact of the HIV/AIDS epidemic in Ethiopia, forging a strong multi-sectoral and multi-level partnership and broad stakeholder involvement is imperative. The Government of Ethiopia has therefore adopted an HIV/AIDS/STI/TB program that responds to these needs, and implementation mechanisms are in place. The government and its partners in civil society are currently taking measures to accelerate the implementation of interventions that deliver comprehensive care and treatment to decrease illness and death, promote acceptance of HIV confidential counseling and testing, and strengthen local health-care capacity. Health-care facilities that are already in the frontlines of the fight against HIV/AIDS/STI/TB are scaling up prevention, care and treatment activities.

The national experience and momentum gathered accord much support to Ethiopia's effort to scale up its HIV/AIDS/STI/TB interventions. However, a shortage of trained manpower, a lack of adequate technical support, and constraints with scientific evidence to guide policy and programmatic decisions, have emerged as major challenges. The complexity of the response to HIV/AIDS/STI/TB calls for strong technical support to national and regional programs. In the Oromia region of Southwest Ethiopia, there is a strong need to scale up training at in-service and pre-service levels, target monitoring and evaluation activities, and establish linkages to national and international partners.

Measurable outcomes of the program will be in alignment with one (or more) of the following performance goal(s) for the National Center for HIV/AIDS, STI, and TB Prevention (NCHSTP): By 2010, work with other countries, international organizations, the Department of State, the U.S. Agency for International Development (USAID), the Department of Health and Human Services (HHS), and other partners to achieve the United Nations General Assembly Special Session on HIV/AIDS goal of reducing prevalence among 15 to 24 years of age and to initiate, expand or strengthen HIV/AIDS prevention, care, treatment and support globally.

This announcement is only for non-research activities supported by HHS. If an applicant proposes research, we will not review the application. For the definition of “research,” please see the HHS/CDC web site at the following Internet address: http://www.cdc.gov/od/ads/opspo111.htm.

Activities

Awardee activities for this program are as follows:

1. Conduct needs assessment among students and faculty at universities and teaching hospitals in the Oromia region of Southwest Ethiopia to determine risk factors, target behaviors, barriers, facilitators, reinforcement mechanisms, communication channels, availability of care, family demographics/situations, etc. to inform the development and implementation of prevention, care and treatment programs.

2. Organize and procure necessary equipment and supplies in a competitive and transparent process, and coordinate care, trainings and targeted monitoring and evaluations.

3. Develop/adapt or organize tools, such as operations manuals, training manuals, and guidelines, in the areas of HIV/AIDS; prevention of mother-to-child transmission (PMTCT); confidential counseling and testing; STI, TB, laboratory, and other technical areas as deemed appropriate for provision of in-patient and out-patient care, in-service training; and targeted monitoring and evaluations.

3.5. Develop and implement a program to make confidential HIV counseling and testing as a routine part of medical care in teaching hospitals in the Oromia region of Southwest Ethiopia.

4. Institute the needed administrative and functional arrangements to coordinate the day-to-day activity of the project to guarantee effectiveness, efficiency, transparency and accountability.

5. Conduct in-service training activities related to HIV/AIDS, PMTCT, confidential counseling and testing, STI, TB, laboratory, and other technical areas as needed at universities and teaching hospitals in the Oromia region of Southwest Ethiopia.

6. Review, update, and institute course outlines and contents for pre-service (undergraduate and post-graduate medical students, nursing students and other paramedical students) training programs to strengthen the training in HIV/AIDS, PMTCT, confidential counseling and testing, STI, TB, laboratory, and other related technical areas at universities and teaching hospitals in the Oromia region of Southwest Ethiopia.

7. Conduct pre-service training in HIV/AIDS, PMTCT, confidential counseling and testing, STI, TB, laboratory, and other related technical areas in all health professional training programs at universities and teaching hospitals in the Oromia region of Southwest Ethiopia.

8. Conduct targeted monitoring and evaluations of project and in identified priority areas that require evidence for perusal in program implementation and in-service and pre-service training, in collaboration with international partners.

9. Conduct reviews and analysis of data and prepare, and disseminate reports and information.

10. Conduct culturally appropriate workshops, seminars and popularization events in local languages related to HIV/AIDS prevention, control, and treatment in South West Ethiopia, and undertake monitoring and evaluation and re-planning of the project.

11. Conduct HIV/AIDS/STIs prevention following the ABC strategies, control, and treatment activities among students and faculty of universities and teaching hospitals in the Oromia region of Southwest Ethiopia. Grantee may not implement condom social marketing without also implementing abstinence and behavior-change interventions.

12. Institute comprehensive prevention, care and treatment supported by information systems and laboratories at teaching hospitals in the Oromia region of Southwest Ethiopia.

In a cooperative agreement, HHS staff is substantially involved in the program activities, above and beyond routine grant monitoring.

HHS activities for this program are as follows:

1. HHS will collaborate with the recipient on designing and implementing the activities listed above, including but not limited to, providing technical assistance to develop and implement program activities, training, quality assurance, data management, statistical analysis and presentations, and project evaluation.

2. Monitor project and budget performance, as part of the Emergency Plan for AIDS Relief Country Operational Plan review and approval process, managed by the Office of the U.S. Global AIDS Coordinator.

3. Assist in the selection of key personnel to be involved in the activities performed under this cooperative agreement.

4. Make available manuals, guidelines or other related materials already developed by HHS-Ethiopia for other similar projects, as well as all policy directives established by the Office of the U.S. Global AIDS Coordinator.

Administration

Comply with all HHS management requirements for meeting participation and progress and financial reporting for this cooperative agreement. (See HHS Activities and Reporting sections below for details.) Comply with all policy directives established by the Office of the U.S. Global AIDS Coordinator.

In a cooperative agreement, HHS staff is substantially involved in the program activities, above and beyond routine grant monitoring.

HHS activities for this program are as follows:

1. Organize an orientation meeting with the grantee to brief them on applicable U.S. Government, HHS, and Emergency Plan expectations, regulations and key management requirements, as well as report formats and contents. The orientation could include meetings with staff from HHS agencies and the Office of the U.S. Global AIDS Coordinator.

2. Review and approve the process used by the grantee to select key personnel and/or post-award subcontractors and/or subgrantees to be involved in the activities performed under this agreement, as part of the Emergency Plan for AIDS Relief Country Operational Plan review and approval process, managed by the Office of the U.S. Global AIDS Coordinator.

3. Review and approve grantee's annual work plan and detailed budget, as part of the Emergency Plan for AIDS Relief Country Operational Plan review and approval process, managed by the Office of the U.S. Global AIDS Coordinator.

4. Review and approve grantee's monitoring and evaluation plan, including for compliance with the strategic information guidance established by the Office of the U.S. Global AIDS Coordinator.

5. Meet on a monthly basis with grantee to assess monthly expenditures in relation to approved work plan and modify plans as necessary.

6. Meet on a quarterly basis with grantee to assess quarterly technical and financial progress reports and modify plans as necessary.

7. Meet on an annual basis with grantee to review annual progress report for each U.S. Government Fiscal Year, and to review annual work plans and budgets for subsequent year, as part of the Emergency Plan for AIDS Relief review and approval process for Country Operational Plans, managed by the Office of the U.S. Global AIDS Coordinator.

8. Provide technical assistance, as mutually agreed upon, and revise annually during validation of the first and subsequent annual work plans. This could include expert technical assistance and targeted training activities in specialized areas, such as strategic information, project management, confidential counseling and testing, palliative care, treatment literacy, and adult learning techniques.

9. Provide in-country administrative support to help grantee meet U.S. Government financial and reporting requirements.

Please note: Either HHS staff or staff from organizations that have successfully competed for funding under a separate HHS contract, cooperative agreement or grant will provide technical assistance and training.

Measurable outcomes of the program will be in alignment with the following performance goals for the Emergency Plan:

A. Prevention

Number of individuals trained to provide HIV prevention interventions, including abstinence, faithfulness, and, for populations engaged in high-risk behaviors,² correct and consistent condom use.

² Behaviors that increase risk for HIV transmission including engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home.

1. Abstinence (A) and Be Faithful (B)

• Number of community outreach and/or mass media (radio) programs that are A/B focused.

• Number of individuals reached through community outreach and/or mass media (radio) programs that are A/B focused.

B. Care and Support

1. Confidential counseling and testing

• Number of patients who accept confidential counseling and testing in a health-care setting.

• Number of clients served, direct.

• Number of people trained in confidential counseling and testing, direct, including health-care workers.

2. Orphans and Vulnerable Children (OVC)

• Number of service outlets/programs, direct and/or indirect.

• Number of clients (OVC) served, direct and/or indirect.

• Number of persons trained to serve OVC, direct.

3. Palliative Care: Basic Health Care and Support

• Number of service outlets/programs that provide palliative care, direct and/or indirect.

• Number of service outlets/programs that link HIV care with malaria and tuberculosis care and/or referral, direct and/or indirect.

• Number of clients served with palliative care, direct and/or indirect.

• Number of persons trained in providing palliative care, direct.

C. HIV Treatment With ART

• Number of clients enrolled in ART, direct and indirect.

• Number of persons trained in providing ART, direct.

D. Strategic Information

• Number of persons trained in strategic information, direct.

E. Expanded Indigenous Sustainable Response

• Project-specific quantifiable milestones to measure:

a. Indigenous capacity-building.

b. Progress toward sustainability.

II. Award Information

Type of Award: Cooperative Agreement. HHS involvement in this program is listed in the Activities section above.

Fiscal Year Funds: 2005.

Approximate Total Funding: $500,000. (This amount is an estimate, and is subject to availability of funds)

Approximate Number of Awards: One.

Approximate Average Award: $100,000.

Floor of Award Range: None.

Ceiling of Award Range: $100,000. (This is the ceiling for the first 12-month budget period)

Anticipated Award Date: September 23, 2005.

Budget Period Length: 12 months.

Project Period Length: Five years.

Throughout the project period, HHS' commitment to continuation of awards will be conditioned on the availability of funds, evidence of satisfactory progress by the recipient (as documented in required reports), and the determination that continued funding is in the best interest of the Federal Government, through the Emergency Plan for AIDS Relief review and approval process for Country Operational Plans, managed by the Office of the U.S. Global AIDS Coordinator.

III. Eligibility Information

III.1. Eligible Applicants

Assistance will be provided only to universities and teaching hospitals in South West Ethiopia. Applicants must demonstrate a strong commitment to community based, multi-disciplinary team training program that also integrates training, service and research.

Applicants must have a documented track record of working closely with Oromia Regional Health Bureau and the adjoining regions as well as with a number of regional and international institutions of higher education, professional associations and non-governmental organizations (NGOs) and faith based organizations (FBOs). Applicants must have demonstrated capacity to provide training for all cadres of health care professionals deployed to this region of Ethiopia.

III.2. Cost Sharing or Matching Funds

Matching funds are not required for this program.

III.3. Other

If an applicant requests a funding amount greater than the ceiling of the award range, HHS/CDC will consider the application non-responsive, and it will not enter into the review process. We will notify you that your application did not meet the submission requirements.

Special Requirements

If your application is incomplete or non-responsive to the special requirements listed in this section, it will not enter into the review process. We will notify you that your application did not meet submission requirements.

• HHS/CDC will consider late applications non-responsive. See section “IV.3. Submission Dates and Times” for more information on deadlines.

• Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

HHS strongly encourages you to submit your application electronically by using the forms and instructions posted for this announcement at www.grants.gov.

Application forms and instructions are available on the HHS/CDC web site, at the following Internet address: www.cdc.gov/od/pgo/forminfo.htm.

If you do not have access to the Internet, or if you have difficulty accessing the forms on-line, you may contact the HHS/CDC Procurement and Grants Office Technical Information Management Section (PGO-TIM) staff at: 770-488-2700. We can mail application forms to you.

IV.2. Content and Form of Submission

Application: You must submit a project narrative with your application forms. You must submit the narrative in the following format:

• Maximum number of pages: 20. If your narrative exceeds the page limit, we will only review the first pages within the page limit.

• Font size: 12-point unreduced

• Double spaced

• Paper size: 8.5 by 11 inches

• Page margin size: One inch

• Printed only on one side of page

• Held together only by rubber bands or metal clips; not bound in any other way.

• All pages should be numbered

• A complete index to the application and any appendices must be included.

• Your application MUST be submitted in English.

Your narrative should address activities to be conducted over the entire project period, and must include the following items in the order listed:

• Background—What are the underlying issues related to undertaking this project?

• Goals and Objectives, including Project Contribution to the Goals and Objectives of the Emergency Plan for AIDS Relief

• Work Plan and Description of Project Components and Activities

• Timeline

• Staffing Plan, with Level of Effort

• Understanding—Demonstrate knowledge of the elements involved in implementing this project.

• Performance Measures—What measures will be used to determine if the objectives of the project are being met?

• Budget Justification—How are the costs related to implementing the project justified?

• Budget—what are the costs associated with implementing the project?

The budget and budget justification is needed only for year one of the project period. The budget and budget justification will not be counted in the page limit stated above.

You may include additional information in the application appendices. The appendices will not be counted toward the narrative page limit. This additional information could include, but is not limited to the following:

• Resumes and/or Curriculum Vitas

• Letters of support, etc.

• Job descriptions of proposed key positions to be created for the activity

• Quality-Assurance, Monitoring-and-Evaluation, and Strategic-Information Forms

• Applicant's Corporate Capability Statement

• Letters of Support

1. Evidence of Legal Organizational Structure

You must have a Dun and Bradstreet Data Universal Numbering System (DUNS) number to apply for a grant or cooperative agreement from the Federal government. The DUNS number is a nine-digit identification number, which uniquely identifies business entities. Obtaining a DUNS number is easy, and there is no charge. To obtain a DUNS number, access www.dunandbradstreet.com or call 1-866-705-5711.

For more information, see the HHS/CDC web site at: http://www.cdc.gov/od/pgo/funding/pubcommt.htm. If your application form does not have a DUNS number field, please write your DUNS number at the top of the first page of your application, and/or include your DUNS number in your application cover letter.

Additional requirements that could require you to submit additional documentation with your application are listed in section “VI.2. Administrative and National Policy Requirements.”

IV.3. Submission Dates and Times

Application Deadline Date: September 19, 2005.

Explanation of Deadlines: Applications must be received in the CDC Procurement and Grants Office by 4 p.m. Eastern Time on the deadline date.

You may submit your application electronically at www.grants.gov. We consider applications completed online through Grants.gov as formally submitted when the applicant organization's Authorizing Official electronically submits the application to www.grants.gov. We will consider electronic applications as having met the deadline if the applicant organization's Authorizing Official has submitted the application electronically to Grants.gov on or before the deadline date and time.

If you submit your application electronically with Grants.gov, your application will be electronically time/date stamped, which will serve as receipt of submission. You will receive an e-mail notice of receipt when HHS/CDC receives the application.

If you submit your application by the United States Postal Service or commercial delivery service, you must ensure that the carrier will be able to guarantee delivery by the closing date and time. If HHS/CDC receives your submission after closing because: (1) carrier error, when the carrier accepted the package with a guarantee for delivery by the closing date and time; or (2) significant weather delays or natural disasters, you will have the opportunity to submit documentation of the carrier's guarantee. If the documentation verifies a carrier problem, HHS/CDC will consider the submission as having been received by the deadline.

If you submit a hard copy application, HHS/CDC will not notify you upon receipt of your submission. If you have a question about the receipt of your application, first contact your courier. If you still have a question, contact the PGO-TIM staff at: 770-488-2700. Before calling, please wait two to three days after the submission deadline. This will allow time for us to process and log submissions.

This announcement is the definitive guide on application content, submission address, and deadline. It supersedes information provided in the application instructions. If your submission does not meet the deadline above, it will not be eligible for review, and we will discard it. We will notify you that you did not meet the submission requirements.

IV.4. Intergovernmental Review of Applications

Executive Order 12372 does not apply to this program.

IV.5. Funding Restrictions

Restrictions, which you must take into account while writing your budget, are as follows:

• Funds may not be used for research.

• Reimbursement of pre-award costs is not allowed.

• Antiretroviral Drugs—The purchase of antiretrovirals, reagents, and laboratory equipment for antiretroviral treatment projects require pre-approval from the GAP headquarters.

• Needle Exchange—No funds appropriated under this Act shall be used to carry out any program of distributing sterile needles or syringes for the hypodermic injection of any illegal drug.

• Funds may be spent for reasonable program purposes, including personnel, training, travel, supplies and services. Equipment may be purchased and renovations completed if deemed necessary to accomplish program objectives; however, prior approval by HHS/CDC officials must be requested in writing.

• All requests for funds contained in the budget shall be stated in U.S. dollars. Once an award is made, HHS/CDC will not compensate foreign grantees for currency exchange fluctuations through the issuance of supplemental awards.

• The costs that are generally allowable in grants to domestic organizations, are allowable to foreign institutions and international organizations, with the following exception: With the exception of the American University, Beirut, and the World Health Organization, Indirect Costs will not be paid (either directly or through sub-award) to organizations located outside the territorial limits of the United States or to international organizations, regardless of their location.

• The applicant may contract with other organizations under this program; however the applicant must perform a substantial portion of the activities, (including program management and operations, and delivery of prevention and care services for which funds are required).

• You must obtain an annual audit of these HHS/CDC funds (program-specific audit) by a U.S.-based audit firm with international branches and current licensure/authority in-country, and in accordance with International Accounting Standards or equivalent standard(s) approved in writing by HHS/CDC.

• A fiscal Recipient Capability Assessment may be required, prior to or post award in order to review the applicant's business management and fiscal capabilities regarding the handling of U.S. Federal funds.

Prostitution and Related Activities

The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides.

A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization and its six Regional Offices, the International AIDS Vaccine Initiative or to any United Nations agency).

The following definition applies for purposes of this clause:

• Sex trafficking means the recruitment, harboring, transportation, provision, or obtaining of a person for the purpose of a commercial sex act. 22 U.S.C. 7102(9).

All recipients must insert provisions implementing the applicable parts of this section, “Prostitution and Related Activities,” in all subagreements under this award. These provisions must be express terms and conditions of the subagreement, must acknowledge that compliance with this section, “Prostitution and Related Activities,” is a prerequisite to receipt and expenditure of U.S. government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients that receive U.S. Government funds (“prime recipients”) in connection with this document must certify compliance prior to actual receipt of such funds in a written statement that makes reference to this document (e.g., “[Prime recipient's name] certifies compliance with the section, ‘Prostitution and Related Activities.’ ”) addressed to the agency's grants officer. Such certifications by prime recipients are prerequisites to the payment of any U.S. Government funds in connection with this document.

Recipients' compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event HHS determines the recipient has not complied with this section, “Prostitution and Related Activities.”

You may find guidance for completing your budget on the HHS/CDC web site, at the following Internet address: http://www.cdc.gov/od/pgo/funding/budgetguide.htm.

IV.6. Other Submission Requirements

Application Submission Address

HHS/CDC strongly encourages you to submit electronically at: www.grants.gov,

You will be able to download a copy of the application package from www.grants.gov, complete it offline, and then upload and submit the application via the Grants.gov site. We will not accept e-mail submissions. If you are having technical difficulties in Grants.gov, you may reach them by e-mail at support@grants.gov, or by phone at 1-800-518-4726 (1-800-518-GRANTS). The Customer Support Center is open from 7 a.m. to 9 p.m. Eastern Time, Monday through Friday.

HHS/CDC recommends that you submit your application to Grants.gov early enough to resolve any unanticipated difficulties prior to the deadline. You may also submit a back-up paper submission of your application. We must receive any such paper submission in accordance with the requirements for timely submission detailed in Section IV.3. of the grant announcement.

You must clearly mark the paper submission: “BACK-UP FOR ELECTRONIC SUBMISSION.”

The paper submission must conform to all requirements for non-electronic submissions. If we receive both electronic and back-up paper submissions by the deadline, we will consider the electronic version the official submission.

We strongly recommended that you submit your grant application by using Microsoft Office products (e.g., Microsoft Word, Microsoft Excel, etc.). If you do not have access to Microsoft Office products, you may submit a PDF file. You may find directions for creating PDF files on the Grants.gov web site. Use of files other than Microsoft Office or PDF could make your file unreadable for our staff.

OR

Submit the original and two hard copies of your application by mail or express delivery service to the following address: Technical Information Management Section—AA136, CDC Procurement and Grants Office, U.S. Department of Health and Human Services, 2920 Brandywine Road, Atlanta, GA 30341.

V. Application Review Information

V.1. Criteria

Applicants must provide measures of effectiveness that will demonstrate the accomplishment of the various identified objectives of the cooperative agreement. Measures of effectiveness must relate to the performance goals stated in the purpose section of this announcement. Measures must be objective and quantitative and must measure the intended outcome. Applicants must submit these measures of effectiveness with the application and they will be an element of evaluation.

We will evaluate your application against the following criteria:

1. Plans for Administration and Management of the Project (25 points)

Do the plan, objectives, and methods described meet the strategy and goals of the President's Emergency Plan? Does the described evaluation methodology meet the plans of the project?

2. Technical and Programmatic Approach (20 points)

Does the applicant's proposal demonstrate an understanding of how to develop, promote, implement, monitor and evaluate activities listed above? Does the applicant describe strategies that are pertinent and match those identified in the five-year strategy of the President's Emergency Plan and activities that are evidence-based, realistic, achievable, and measurable and culturally appropriate in Ethiopia to achieve the goals of the Emergency Plan?

3. Ability To Carry Out the Project (20 points)

Does the applicant demonstrate the capability to achieve the purpose of the project and provide the required training and outreach activities in local languages?

4. Personnel (20 points)

Are professional personnel involved in this project qualified, including evidence of experience in working with HIV/AIDS/STI/TB in Sub-Saharan Africa?

5. Understanding the Problem (15 points)

Does the applicant's proposal demonstrate a clear and concise understanding of the general AIDS epidemic and the specific situation in Ethiopia, the policy environment and current training and research needs in Ethiopia?

6. Budget (Not scored, but Evaluated)

Is the itemized budget for conducting the project reasonable and well justified?

V.2. Review and Selection Process

The HHS/CDC Procurement and Grants Office (PGO) staff will review applications for completeness, and the HHS Global AIDS program will review them for responsiveness. Incomplete applications and applications that are non-responsive to the eligibility criteria will not advance through the review process. Applicants will receive notification that their applications did not meet submission requirements.

An objective review panel will evaluate complete and responsive applications according to the criteria listed in the “V.1. Criteria” section above. All persons who serve on the panel will be external to the U.S. Government Country Program Office. The panel can include both Federal and non-Federal participants.

In addition, the following factors could affect the funding decision: While U.S.-based organizations are eligible to apply, we will give preference to existing national/Ethiopian organizations with a successful history of working in the Oromia region of Southwest Ethiopia. It is possible for one organization to apply as lead grantee with a plan that includes partnering with other organizations, preferably local. Although matching funds are not required, preference will go to organizations that can leverage additional funds to contribute to program goals.

Applications will be funded in order by score and rank determined by the review panel. HHS/CDC will provide justification for any decision to fund out of rank order.

V.3. Anticipated Announcement and Award Dates

September 23, 2005.

VI. Award Administration Information

VI.1. Award Notices

Successful applicants will receive a Notice of Award (NoA) from the HHS/CDC Procurement and Grants Office. The NoA shall be the only binding, authorizing document between the recipient and HHS/CDC. An authorized Grants Management Officer will sign the NoA, and mail it to the recipient fiscal officer identified in the application.

Unsuccessful applicants will receive notification of the results of the application review by mail.

VI.2. Administrative and National Policy Requirements

45 CFR Part 74

For more information on the Code of Federal Regulations, see the National Archives and Records Administration at the following Internet address: http://www.access.gpo.gov/nara/cfr/cfr-table-search.html.

The following additional requirements apply to this project:

• AR-4 HIV/AIDS Confidentiality Provisions

• AR-8 Public Health System Reporting Requirements

• AR-12 Lobbying Restrictions

• AR-14 Accounting System Requirements

Applicants can find additional information on these requirements on the HHS/CDC web site at the following Internet address: http://www.cdc.gov/od/pgo/funding/ARs.htm.

You need to include an additional Certifications form from the PHS 5161-1 application in your Grants.gov electronic submission only. Please refer to http://www.cdc.gov/od/pgo/funding/PHS5161-1-Certificates.pdf. Once you have filled out the form, please attach it to your Grants.gov submission as Other Attachment Forms.

VI.3. Reporting Requirements

You must provide HHS/CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness, including progress against the numerical goals of the President's Emergency Plan for AIDS Relief for Ethiopia.

f. Additional Requested Information.

2. Annual progress report, due within no later than 90 days after the end of the budget period.

3. Financial status report, no more than 90 days after the end of the budget period.

4. Final financial and performance reports, no more than 90 days after the end of the project period.

Recipients must mail these reports to the Grants Management or Contract Specialist listed in the “Agency Contacts” section of this announcement.

VII. Agency Contacts

We encourage inquiries concerning this announcement.

For general questions, contact: Technical Information Management Section, CDC Procurement and Grants Office, U.S. Department of Health and Human Services, 2920 Brandywine Road, Atlanta, GA 30341. Telephone: 770-488-2700.

For program technical assistance, contact: Tadesse Wuhib, MD, MPH, Country Director, HHS/CDC-Ethiopia, P.O. Box 1014, Entoto Road, Addis Ababa. Telephone: (Office) 251-1-66-95-33; (Cell) 251-9-228543. E-mail address: wuhibt@etcdc.com.

For financial, grants management, or budget assistance, contact: Shirley Wynn, Grants Management Specialist, CDC Procurement and Grants Office, U.S. Department of Health and Human Services, 2920 Brandywine Road, Atlanta, GA 30341. Telephone: 770-488-1515. E-mail: SWynn@cdc.gov.

VIII. Other Information

Applicants can find this and other HHS funding opportunity announcements on the HHS CDC web site, Internet address: www.cdc.gov (click on “Funding” then “Grants and Cooperative Agreements”), and on the web site of the HHS Office of Global Health Affairs, Internet address: www.globalhealth.gov.

Dated: August 17, 2005.
William P. Nichols,
Director, Procurement and Grants Office, Centers for Disease Control and Prevention, U.S. Department of Health and Human Services.

[FR Doc. 05-16817 Filed 8-23-05; 8:45 am]

BILLING CODE 4163-18-P